DEPARTMENT OF HEALTH AND HUMAN SERVICES

National Institutes of Health

National Heart, Lung, and Blood Institute; Amended Notice of Meetings

Notice is hereby given of a change in the meetings of the National Heart, Lung, and Blood Institute Special Emphasis Panel, The Strong Heart Study—Field Centers and the Strong Heart Study—Coordinating Center meetings, Hilton Garden Inn Bethesda, 7301 Waverly Street, Bethesda, MD, 20814 which was published in the Federal Register on March 19, 2018, 83FR12013.

This notice is amended to change the meeting times on April 11, 2018. The Strong Heart Study—Field Centers is amended to occur at 10:30 a.m. to 1:30 p.m. The Strong Heart Study—Coordinating Center is amended to occur at 8:30 a.m. to 10:30 a.m. The meetings are closed to the public.

Dated: March 20, 2018.
Michelle Trout,
Program Analyst, Office of Federal Advisory Committee Policy.

[FR Doc. 2018-05990 Filed 3-23-18; 8:45 am]

BILLING CODE 4140-01-P